PEACE CORPS

Privacy Act of 1974; Report of an Altered System of Records

AGENCY: Notice to amend a system of record.

SUMMARY: The Peace Corps is revising an existing systems of record notice subject to the Privacy Act of 1974, (5 U.S.C. 552a), PC-21—Peace Corps Response Database. The first revision modifies the individuals covered by the system to include all applicants for Volunteer service with Peace Corps Response. The second revision modifies the purpose of the system of records which is to maintain records of individuals who apply for Peace Corps Response Volunteer service and to record resulting actions taken on the applications and service. The third revision indicates that all of the Peace Corps' General Routine Uses apply to PC-21.

DATES: This proposed action will be effective without further notice January 27, 2012 without further action, unless adverse comment is received by Peace Corps by January 12, 2012.

ADDRESSES: You may submit comments by email to pcfr@peacecorps.gov. Include Privacy Act System of Records in the subject line of the message. You may also submit comments by mail to Denora Miller, Privacy Act Officer, Peace Corps, 1111 20th Street NW., Washington, DC 20526. Contact Denora Miller for copies of comments.

FOR FURTHER INFORMATION CONTACT: Denora Miller, Privacy Act Officer, (202) 692-1236, pcfr@peacecorps.gov.

SUPPLEMENTARY INFORMATION: The Privacy Act, 5 U.S.C. 552a, provides that the public will be given a 30-day period in which to comment on a revised routine use. The Office of Management and Budget (OMB), which has oversight responsibility under the Act, requires a 40-day period in which to review the revision. In accordance with 5 U.S.C. 552a, Peace Corps has provided a report on this system to OMB and the Congress. Peace Corps is publishing changes which affect the public's right or need to know.

System name:

PC-21—Peace Corps Response Database.

Changes:

* * * * *

Category of individuals covered by the system:

All applicants for Volunteer service with the Peace Corps Response.

Purpose:

To maintain records of individuals who apply for Peace Corps Response Volunteer service and to record resulting actions taken on the applications and service.

Routine uses of records maintained in the system:

General routine uses A through L apply to this system.

This notice is issued in Washington, DC, on December 5, 2011.
Garry W. Stanberry,
Deputy Associate Director, Management.

[FR Doc. 2011-31898 Filed 12-12-11; 8:45 am]

BILLING CODE 6051-01-P